DEPARTMENT OF COMMERCE

Foreign-Trade Zones Board

[B-40-2025]

Foreign-Trade Zone (FTZ) 186, Notification of Proposed Production Activity; Mölnlycke Health Care; (Medical Dressings and Foam); Brunswick, Portland, and Wiscasset, Maine

Mölnlycke Health Care submitted a notification of proposed production activity to the FTZ Board (the Board) for its facilities in Brunswick, Portland, and Wiscasset, Maine within Subzone 186C. The notification conforming to the requirements of the Board's regulations (15 CFR 400.22) was received on August 15, 2025.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include polyurethane foam and wound care dressings (duty rate ranges from duty-free to 4.2%).

The proposed foreign-status materials/components include: hot melt laminating adhesive; silicone; release liners (polyethylene coated; temporary polyethylene); layered films (polyethylene and polyethylene terephthalate; polyethylene and polyamide); films (low-density polyethylene film; non-cellular polyurethane; polyethylene release; polyurethane backing); various papers (gummed grid; polyethylene coated; casting); air laid cotton linter wound pads; paper labels; informational leaflets; and, laminates (duty rate ranges from duty-free to 5.8%). The request indicates that certain materials/components are subject to duties under section 1702(a)(1)(B) of the International Emergency Economic Powers Act (section 1702), or section 301 of the Trade Act of 1974 (section 301), depending on the country of origin. The applicable section 1702, and section 301 decisions require subject merchandise to be admitted to FTZs in privileged foreign status (19 CFR 146.41).

Public comment is invited from interested parties. Submissions shall be addressed to the Board's Executive Secretary and sent to: ftz@trade.gov. The closing period for their receipt is October 8, 2025.

A copy of the notification will be available for public inspection in the “Online FTZ Information System” section of the Board's website.

For further information, contact Juanita Chen at juanita.chen@trade.gov.

Dated: August 26, 2025.
Elizabeth Whiteman,
Executive Secretary.

[FR Doc. 2025-16657 Filed 8-28-25; 8:45 am]

BILLING CODE 3510-DS-P